ENVIRONMENTAL PROTECTION AGENCY

40 CFR Part 52

[EPA-R05-OAR-2015-0824; FRL-9971-63-Region 5]

Air Plan Approval; Ohio; Infrastructure SIP Requirements for the 2012 PM2.5 NAAQS; Multistate Transport

AGENCY: Environmental Protection Agency (EPA).

ACTION: Proposed rule.

SUMMARY: The Environmental Protection Agency (EPA) is proposing to approve elements of the State Implementation Plan (SIP) submission from Ohio regarding the infrastructure requirements of section 110 of the Clean Air Act (CAA) for the 2012 annual fine particulate matter (PM2.5) National Ambient Air Quality Standard (NAAQS or standard). The infrastructure requirements are designed to ensure that the structural components of each state's air quality management program are adequate to meet the state's responsibilities under the CAA. This action pertains specifically to infrastructure requirements concerning interstate transport provisions.

DATES: Comments must be received on or before January 8, 2018.

ADDRESSES: Submit your comments, identified by Docket ID No. EPA-R05-OAR-2015-0824 at http://www.regulations.gov, or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the Web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: Throughout this document whenever “we,” “us,” or “our” is used, we mean EPA. This supplementary information section is arranged as follows:

I. What is the background of this SIP submission?

II. What guidance is EPA using to evaluate this SIP submission?

III. EPA's Review

IV. What action is EPA taking?

V. Statutory and Executive Order Reviews

I. What is the background of this SIP submission?

This rulemaking addresses a submission from the Ohio Environmental Protection Agency (OEPA), describing its infrastructure SIP for the 2012 annual PM2.5 NAAQS, dated December 4, 2015. Specifically, this rulemaking addresses the portion of the submission dealing with interstate pollution transport under CAA section 110(a)(2)(D)(i), otherwise known as the “good neighbor” provision. The requirement for states to make a SIP submission of this type arises from section 110(a)(1) of the CAA. Pursuant to section 110(a)(1), states must submit “within 3 years (or such shorter period as the Administrator may prescribe) after the promulgation of a national primary ambient air quality standard (or any revision thereof),” a plan that provides for the “implementation, maintenance, and enforcement” of such NAAQS. The statute directly imposes on states the duty to make these SIP submissions, and the requirement to make the submissions is not conditioned upon EPA's taking any action other than promulgating a new or revised NAAQS. Section 110(a)(2) includes a list of specific elements that “[e]ach such plan” submission must address. EPA commonly refers to such state plans as “infrastructure SIPs.”

II. What guidance is EPA using to evaluate this SIP submission?

EPA highlighted the statutory requirement to submit infrastructure SIPs within 3 years of promulgation of a new NAAQS in a October 2, 2007, guidance document entitled “Guidance on SIP Elements Required Under Sections 110(a)(1) and (2) for the 1997 8-hour Ozone and PM2.5 National Ambient Air Quality Standards” (2007 guidance). EPA has issued additional guidance documents and memoranda, including a September 13, 2013, guidance document titled “Guidance on Infrastructure State Implementation Plan (SIP) Elements under Clean Air Act Sections 110(a)(1) and 110(a)(2)” (2013 guidance).

The most recent relevant document was a memorandum published on March 17, 2016, titled “Information on the Interstate Transport “Good Neighbor” Provision for the 2012 Fine Particulate Matter National Ambient Air Quality Standards under Clean Air Act Section 110(a)(2)(D)(i)(I)” (2016 memorandum). The 2016 memorandum describes EPA's past approach to addressing interstate transport, and provides EPA's general review of relevant modeling data and air quality projections as they relate to the 2012 annual PM2.5 NAAQS. The 2016 memorandum provides information relevant to EPA Regional office review of the CAA section 110(a)(2)(D)(i)(I) “good neighbor” provision in infrastructure SIPs with respect to the 2012 annual PM2.5 NAAQS. This rulemaking considers information provided in that memorandum.

The 2016 memorandum provides states and EPA Regional offices with future year annual PM2.5 design values for monitors in the United States based on quality assured and certified ambient monitoring data and air quality modeling. The memorandum further describes how these projected potential design values can be used to help determine which monitors should be further evaluated to potentially address whether emissions from other states significantly contribute to nonattainment or interfere with maintenance of the 2012 annual PM2.5 NAAQS at those sites. The 2016 memorandum explained that the pertinent year for evaluating air quality for purposes of addressing interstate transport for the 2012 PM2.5 NAAQS is 2021, the attainment deadline for 2012 PM2.5 NAAQS nonattainment areas classified as Moderate. Accordingly, because the available data included 2017 and 2025 projected average and maximum PM2.5 design values calculated through the CAMx photochemical model, the memorandum suggests approaches states might use to interpolate PM2.5 values at sites in 2021.

For all but one monitor site in the eastern United States, the modeling data showed that monitors were expected to both attain and maintain the 2012 PM2.5 NAAQS in both 2017 and 2025. The modeling results provided in the 2016 memorandum show that out of seven PM2.5 monitors located in Allegheny County, Pennsylvania, one monitor is expected to be above the 2012 annual PM2.5 NAAQS in 2017. Further, that monitor (ID number 420030064) is projected to be above the NAAQS only under the model's maximum projected conditions (used in EPA's interstate transport framework to identify maintenance receptors), and is projected to both attain and maintain the NAAQS (along with all Allegheny County monitors) in 2025. The memorandum therefore indicates that under such a condition (where EPA's photochemical modeling indicates an area will maintain the 2012 annual PM2.5 NAAQS in 2025 but not attain in 2017) further analysis of the site should be performed to determine if the site may be a nonattainment or maintenance receptor in 2021 (the attainment deadline for moderate PM2.5 areas). The memorandum also indicates that for certain states with incomplete ambient monitoring data, additional information including the latest available data, should be analyzed to determine whether there are potential downwind air quality problems that may be impacted by transported emissions. This rulemaking considers these analyses from Ohio, as well as additional analysis conducted by EPA during review of its submittal.

III. EPA's Review

This rulemaking proposes action on the portion of Ohio's December 4, 2015, SIP submission addressing the good neighbor provision requirements of CAA Section 110(a)(2)(D)(i). State plans must address four requirements of the good neighbor provisions (commonly referred to as “prongs”), including:

—Prohibiting any source or other type of emissions activity in one state from contributing significantly to nonattainment of the NAAQS in another state (prong one);

—Prohibiting any source or other type of emissions activity in one state from interfering with maintenance of the NAAQS in another state (prong two);

—Prohibiting any source or other type of emissions activity in one state from interfering with measures required to prevent significant deterioration (PSD) of air quality in another state (prong three); and

—Protecting visibility in another state (prong four).

This rulemaking is evaluating the December 4, 2015 submission, specific to prongs one and two of Ohio's interstate transport provisions in its PM2.5 infrastructure SIP. Prongs three and four will be evaluated in a separate rulemaking.

EPA has developed a consistent framework for addressing the prong one and two interstate transport requirements with respect to the PM2.5 NAAQS in several previous Federal rulemakings. The four basic steps of that framework include: (1) Identifying downwind receptors that are expected to have problems attaining or maintaining the NAAQS; (2) identifying which upwind states contribute to these identified problems in amounts sufficient to warrant further review and analysis; (3) for states identified as contributing to downwind air quality problems, identifying upwind emissions reductions necessary to prevent an upwind state from significantly contributing to nonattainment or interfering with maintenance of the NAAQS downwind; and (4) for states that are found to have emissions that significantly contribute to nonattainment or interfere with maintenance of the NAAQS downwind, reducing the identified upwind emissions through adoption of permanent and enforceable measures. This framework was most recently applied with respect to PM2.5 in the Cross-State Air Pollution Rule (CSAPR), designed to address both the 1997 and 2006 PM2.5 standards, as well as the 1997 ozone standard.

Ohio's December 4, 2015, submission indicates that the Ohio SIP contains the following major programs related to the interstate transport of pollution: Ohio Administrative Code (OAC) Chapters 3745-16 (Stack Height Requirements); 3745-103 (Acid Rain Permits and Compliance); 3745-14 (Nitrogen Oxides—Budget Trading Program); and 3745-109 (Clean Air Interstate Rule). Ohio also indicates that sources in the state are complying with CSAPR. In addition, Ohio has responded to requests by the States of Indiana and West Virginia, implementing revisions to OAC 3724-18 (Hamilton County and Jefferson County) to alleviate modeled violations due, in part, to sources in Ohio.

Ohio's submittal also contains a technical analysis of its interstate transport of pollution relative to the 2012 annual PM2.5 NAAQS prepared in October 2015. The technical analysis studied Ohio sources' contribution to monitored PM2.5 air quality values in other states, and evaluated downwind areas which were most influenced by Ohio sources, and whether Ohio would need to take further steps to decrease its emissions (and therefore contribution) to those areas. Ohio's technical analysis considers CSAPR rule implementation, a review of then-current air quality design values, and other factors such as meteorology and state-wide emissions inventories. Through its technical analysis, Ohio determined that at the time of EPA's analysis of its CSAPR rule,¹ sources in Ohio were projected to contribute more than the 1% screening threshold toward PM2.5 air quality at certain receptors PM2.5 air quality problems in Alabama, Georgia, Illinois, Indiana, Iowa, Kentucky, New York, Pennsylvania, and West Virginia. Ohio then used that information to evaluate the distance and geography of the downwind states potentially impacted by Ohio emissions. Ohio also examined the most recent air quality in those downwind states. (Based on distance and topographical considerations, Ohio's analysis did not focus on potential contribution to areas not attaining the 2012 annual PM2.5 NAAQS based on 2012-2014 monitor data in Alaska, California, Idaho, Nevada or Hawaii.)

¹ Contained in the TSD for EPA's CSAPR rule (76 FR 48208). EPA's technical analysis included modeled emissions and air quality for 2012.

Ohio completed its technical analysis before March 17, 2016, when, as discussed earlier, EPA released updated modeling projections for 2017 and 2025 annual PM2.5 design values meant to assist states in implementation of their 2012 PM2.5 NAAQS interstate transport SIPs. As discussed later, however, EPA's review of Ohio's submittal nevertheless concludes that the March 17, 2016, updated modeling projections data corroborate the findings of Ohio's technical analysis. In addition, certified annual PM2.5 design values recorded since Ohio's submittal further confirm Ohio's technical analysis.

By looking at 2012-2014 annual PM2.5 design values, CSAPR-modeled design values, emissions inventory data, and other factors, Ohio's technical analysis shows that monitored air quality values in states Ohio potentially contributes to have trended downward and were in most cases were already lower than the 2012 PM2.5 NAAQS based on 2012-2014 air quality data (the newest data available at the time of Ohio's technical analysis and submittal). Table 1 shows ambient monitoring data for the downwind states that Ohio identified as areas that could be affected by its emissions. The table contains county level annual average PM2.5 design value data for 2012-2014. In addition, data used for EPA's expanded review of PM2.5 design values that includes design values for 2009-2011, 2010-2012, 2011-2013, 2013-2015, and 2014-2016 is included in the technical support document (TSD) in the docket, “[Technical Support Document for Docket #EPA-R05-OAR-2015-0824].” The TSD for this action also looks at air quality trends in Illinois and Pennsylvania, areas that required further review because of either missing data or monitored values recently near or above the NAAQS, by showing the areas' 2012-2014, 2013-2015, and 2014-2016 design values as well as yearly annual means from 2014 through 2016 for certain counties based on AQS data. EPA's expanded review, as discussed throughout this action, supports Ohio's conclusions drawn from the data shown in Table 1.

Table 1—Monitored PM2.5 Air Quality in Counties That Ohio Potentially Contributes One Percent or More Toward PM2.5 Concentrations
State | County | 2012-2014 Annual PM2.5 DV (µg/m ³) | 2013-2015 Annual PM2.5 DV (µg/m ³) | 2014-2016 Annual PM2.5 DV (µg/m ³)
Alabama | Jefferson | 11.3 | 11 | 11.2
Alabama | Russell | 10.7 | 10 | 9.7
Alabama | Pulaski | 11.7 | 10.7 | 10.3
Georgia | Bibb | 10.9 | 10.2 | 10.1
Georgia | Clayton | 10.3 | 10 | 9.9
Georgia | Floyd | 10.3 | 9.9 | 9.9
Georgia | Fulton | 11 | 10.5 | 10.4
Georgia | Muscogee | 10.2 | 9.6 | 9.6
Georgia | Wilkinson | 10.6 | 10 | 9.9
Illinois | Champaign | N/A | N/A | N/A
Illinois | Cook | N/A | N/A | N/A
Illinois | Macon | N/A | N/A | N/A
Illinois | Madison | N/A | N/A | N/A
Illinois | Saint Clair | N/A | N/A | N/A
Indiana | Clark | 11.8 | 11.4 | 10.6
Indiana | Dubois | 10.9 | 10.6 | 9.8
Indiana | Lake | 11.5 | 11 | 10.1
Indiana | Madison | 9.8 | 9.6 | 9
Indiana | Marion | 11.8 | 11.7 | 11.4
Indiana | Spencer | 10.5 | 10.1 | 9.5
Indiana | Vanderburgh | 10.9 | 10.7 | 10.1
Indiana | Vigo | 10.6 | 10.3 | 9.7
Iowa | Muscatine | 10.8 | 10.4 | 9.4
Kentucky | Bullitt |  |  |
New York | Bronx | 10.3 | 9.4 | 9
Pennsylvania | Allegheny | 13 | 12.6 | 12.8
Pennsylvania | Beaver | 11.3 | 10.8 | 10.1
Pennsylvania | Cambria | 11.6 | 11.7 | 10.7
Pennsylvania | Chester | 9.9 | 10 | 9.6
Pennsylvania | Delaware | 12.3 | 11.6 | 11.5
Pennsylvania | Lancaster | 11.6 | 11.2 | 12.8
Pennsylvania | Lebanon | 12.7 | 11.7 | 11.2
Pennsylvania | Northampton | 10.5 | 10 | 9.3
Pennsylvania | Westmoreland | 10.1 | 9.8 | 8.7
West Virginia | Brooke | 11.1 | 11.2 | 10.5
West Virginia | Marshall | 11.1 | 10.7 | 10.2
Texas | El Paso | 11 | 9.9 | 9.4
Wisconsin | Eau Claire | 7.9 | 7.5 | 7.1
* Value does not contain a complete year's worth of data.

In all areas where three years of certified data exist to determine annual PM2.5 design values for 2012-2014, only three counties in Pennsylvania recorded values above the NAAQS: Allegheny, Delaware, and Lebanon counties (which will be discussed in detail below). Because of errors in protocol made during the recording and/or analysis of PM2.5 air quality monitors in several states (for example, improper maintenance of an air quality monitor or not following proper laboratory analysis procedures), the data from those monitors could not be quality assured or certified for use in determining those areas' PM2.5 design values. These data quality and certification issues were identified by EPA to have occurred between 2012 and 2015. Therefore, those states had missing annual PM2.5 design values for certain three-year periods. The PM2.5 monitoring data for the State of Illinois (the only state with data quality issues Ohio identified as contributing to) for all of 2012, 2013, and until July 2014 suffered from data quality/completion issues and therefore no current annual PM2.5 design values exist for Illinois. By making corrections in protocol at laboratories that review PM2.5 air monitor samples (for example, maintaining the laboratory's air temperature to within specified limits so as not to cause errors in PM sample analysis) and by rectifying other deficiencies identified by EPA, we have determined that these quality control issues have been fully resolved for Illinois (and all states referenced in this analysis). While Illinois has resolved its quality control issues, it has still not recorded three full years of certified data to be able to determine annual PM2.5 design values for its counties.

EPA considered available data from monitors in Illinois for its analysis of Ohio's submittal. As noted, there is only partial year Illinois data for 2014. However, our review looks at the most recent valid data available, which are Illinois' recorded 2015-2016 annual average mean values for monitors in each county, to determine whether data and downward trends demonstrated in other states in Ohio's technical analysis are also demonstrated in Illinois. As discussed below, generally the data show a steady decline in annual PM2.5 concentrations across all sites in Illinois, with most counties' 2016 annual means well below the NAAQS. Table 2 shows the annual mean PM2.5 values for 2015 and 2016.

Table 2—Annual Mean PM2.5 Values for Illinois, 2015-2016
County | 2015 PM2.5 Annual mean (µg/m ³) | 2016 PM2.5 Annual mean (µg/m ³)
Champaign | 8.6 | 7.6
Cook | 12.5 | 9.4
DuPage | 9 | 7.8
Hamilton | 8.2 | 7.8
Jersey | 7.7 | * 7.9
Kane | 8.9 | 8
Macon | 8.7 | 7.8
Madison | 10.4 | 9.1
McHenry | 9.9 | 7.3
McLean | 7.6 | 7.6
Peoria | 8.6 | 7.6
Randolph | 7.9 | 8
Rock Island | 9.1 | 7.2
Sangamon | 8.2 | 7.7
Saint Clair | 10.7 | 10
Will | 9.1 | 7.8
Winnebago | 9.1 | 7.8
* Value does not contain a complete year's worth of data.

Based upon our expanded review of these data to include valid PM2.5 design values for the years 2009-2011, 2010-2012, and 2011-2013 (located in the TSD) and despite not having three complete recent years of certified, quality-assured monitoring data or annual PM2.5 design values—Illinois' air quality trends reflect what is shown across the nation: a general downward trend in ambient air concentrations, including at sites in the states that Ohio analyzed in its submittal. Only three Illinois counties reported 2010-2012 annual PM2.5 design values above the NAAQS: Cook, Madison, and Saint Clair counties. In Cook County, the 2010-2012 design value (which is the latest certified design value for the county), was 12.7 µg/m³, and despite a slight rise in 2015, the annual mean values have trended downward. Cook County's annual mean for that year was 9.4 µg/m³, representing a significant decline in monitored ambient PM2.5. For Madison County, the 2010-2012 PM2.5 design value was 13.5 µg/m³, and the 2014-2016 annual means show a trend downward from 12.9 µg/m³ to 9.1 µg/m³, a clear and continuous downward trend. For Saint Clair County, the 2010-2012 PM2.5 design value was 12.2 µg/m³, and the 2014-2016 annual means show a clear and continuous downward trend from 10.9 µg/m³ to 10 µg/m³. All other counties in Illinois were below the NAAQS, based both on their 2010-2012 PM2.5 design values and their recorded 2014-2016 annual mean concentrations. Therefore, EPA expects that all counties in Illinois will attain and maintain the PM2.5 NAAQS without the need for additional PM2.5 reductions in Ohio.

Ohio found, and our review confirmed, that despite the fact that Ohio emissions potentially contribute to areas' monitored PM2.5 air quality, all but two areas in Pennsylvania (Allegheny and Delaware counties) were attaining the 2012 annual PM2.5 NAAQS based on 2012-2014 data. A review of 2013-2015 design values shows that all areas except for Allegheny County have attained the NAAQS. Our review also considers 2014-2016 design values, which show only Allegheny and Lancaster counties not meeting the NAAQS.

Ohio's technical analysis focused on its contribution to Allegheny County because, in addition to being the closest county with monitored PM2.5 air quality above the NAAQS, it has the highest design values for the 2012 annual PM2.5 NAAQS in all of the counties in Ohio's technical review. Ohio's technical review also looked at its impact on PM2.5 air quality in Delaware, Lancaster, and Lebanon counties in Pennsylvania and while its contribution to these areas was less than for Allegheny, Ohio identified these counties as ones it may contribute to based on the 2012 CSAPR modeling.

EPA's review looked further into more recent and current PM2.5 monitor data in those counties. In Delaware and Lebanon counties, not only do the most recent PM2.5 monitor data show these counties are attaining the PM2.5 NAAQS, EPA's PM2.5 modeling data for 2017 and 2025 do not indicate any nonattainment or maintenance issues in these counties. There is a clear downward trend in PM2.5 values in these counties. For Lancaster County, despite having a 2014-2016 design value that exceeds the NAAQS, there is a clear downward trend in the monitored PM2.5 air quality data that supports EPA's PM2.5 modeling that shows no nonattainment or maintenance problems for this county by 2021.

The modeling information contained in EPA's March 17, 2016 memorandum shows that one monitor in Alleghany County, PA (the Liberty monitor, 420030064) may have a maintenance issue in 2017, but is projected to both attain and maintain the NAAQS by 2025. A linear interpolation of the modeled design values to 2021 shows that the monitor is likely to both attain and maintain the standard by 2021. Emissions and air quality data trends help to corroborate this interpolation.

Over the last decade, local and regional emissions reductions of primary PM2.5, sulfur dioxide (SO2), and nitrogen oxide (NOX), have led to large reductions in annual PM2.5 design values in Allegheny County, Pennsylvania. In 2007, all of Allegheny County's PM2.5 monitors exceeded the level of the 2012 NAAQS (the 2005-2007 annual average design values ranged from 12.9-19.8 µg/m³, as shown in Table 3). The 2014-2016 annual average PM2.5 design values now show that only one monitor (Liberty, at 12.8 µg/m³) exceeds the health-based annual PM2.5 NAAQS of 12.0 µg/m³.

The Liberty monitor is already close to attaining the NAAQS, and expected emissions reductions in the next four years will lead to additional reductions in measured PM2.5 concentrations. There are both local and regional components to the measured PM2.5 levels in Allegheny County and the greater Pittsburgh area. Previous CSAPR modeling showed that regional emissions from upwind states, particularly SO2 and NOX emissions, contribute to PM2.5 nonattainment at the Liberty monitor. In recent years, large SO2 and NOX reductions from power plants have occurred in Pennsylvania and states upwind from the Greater Pittsburgh region. Ohio's submittal indicates that Pennsylvania's energy sector emissions of SO2 will have decreased 166,000 tons between 2015-2017 as a result of CSAPR implementation. This is due to both the installation of emissions controls and retirements of electric generating units (EGUs) [see the TSD for more details]. Projected power plant closures and additional emissions controls in Pennsylvania and upwind states will help further reduce both direct PM2.5 and PM2.5 precursors. Regional emission reductions will continue to occur from current on-the-books Federal and state regulations such as the Federal on-road and non-road vehicle programs, and various rules for major stationary emissions sources.

In addition to regional emissions reductions and plant closures, additional local reductions to both direct PM2.5 and SO2 emissions are expected to occur and should also contribute to further declines in Allegheny County's PM2.5 monitor concentrations. For example, significant SO2 reductions have recently occurred at US Steel's integrated steel mill facilities in southern Allegheny County as part of a 1-hr SO2 NAAQS SIP.² Reductions are largely due to declining sulfur content in the Clairton Coke Work's coke oven gas (COG). Because this COG is burned at US Steel's Clairton Coke Works, Irvin Mill, and Edgar Thompson Steel Mill, these reductions in sulfur content should contribute to much lower PM2.5 precursor emissions in the immediate future. The Allegheny SO2 SIP also projects lower SO2 emissions resulting from vehicle fuel standards, reductions in general emissions due to declining population in the Greater Pittsburgh region and several shutdowns of significant sources of emissions in Allegheny County.

² http://www.achd.net/air/publichearing2017/SO2_2010_NAAQS_SIP_5-1-2017.pdf.

EPA modeling projections, the recent downward trend in local and upwind emissions reductions, the expected continued downward trend in emissions between 2017 and 2021, and the downward trend in monitored PM2.5 concentrations all indicate that the Liberty monitor will attain and be able to maintain the 2012 annual PM2.5 NAAQS by 2021.

In addition to local reductions projected to occur in Pennsylvania discussed above, Ohio indicated that its own state-wide SO2 emissions from the energy generation sector will have decreased by 148,000 tons, or about 50 percent of its 2014 emissions, between 2015 and 2017 as a result of CSAPR implementation across Ohio. Thus, the submittal shows that because of reductions from CSAPR implementation in Ohio and across the CSAPR states, emissions have trended downward nearly universally among PM2.5 air quality monitors. This trend is reinforced by looking at air quality data since Ohio's submittal, and by data in EPA's March 17, 2016, Memorandum.

The conclusions of Ohio's analysis are consistent with EPA's March 17, 2016, Memorandum. All areas that Ohio sources potentially contribute to are expected to attain and maintain the 2012 PM2.5 NAAQS by 2021. Ohio's analysis shows that through permanent and enforceable measures currently contained in its SIP, implementation of CSAPR from 2015-2017 and beyond, and other emissions reductions occurring in Ohio and in other states, monitored PM2.5 air quality in all identified areas that Ohio sources may impact will continue to improve, and that no further measures are necessary to satisfy Ohio's responsibilities under CAA section 110(a)(2)(D)(i)(I). Therefore, EPA is proposing that prongs one and two of the interstate pollution transport element of Ohio's infrastructure SIP are approvable.

IV. What action is EPA taking?

EPA is proposing to approve a portion of Ohio's December 4, 2015, submission certifying that the current Ohio SIP is sufficient to meet the required infrastructure requirements under CAA section 110(a)(2)(D)(i)(I), specifically prongs one and two, as set forth above. EPA is requesting comments on the proposed approval.

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Particulate matter, Reporting and recordkeeping requirements.

Dated: November 17, 2017.
Robert A. Kaplan,
Acting Regional Administrator, Region 5.

[FR Doc. 2017-26291 Filed 12-6-17; 8:45 am]

BILLING CODE 6560-50-P